DEPARTMENT OF ENERGY

Federal Energy Regulatory Commission

[Project No. 1267-085]

Greenwood County, SC; Notice of Application and Soliciting Comments, Motions To Intervene, and Protests

February 3, 2009.

a. Type of Application: Non-Project Use of Project Lands and Waters.

b. Project Number: Project No. 1267-085.

c. Date Filed: December 3, 2008.

d. Applicant: Greenwood County, South Carolina.

e. Name of Project: Buzzard's Roost Hydroelectric Project (FERC No. 1267).

f. Location: The project is located on the Saluda River in Greenwood, Laurens and Newberry Counties, South Carolina.

g. Filed Pursuant to: Federal Power Act, 16 U.S.C. 791(a) 825(r) and 799 and 801.

h. Applicant Contact: Mr. Charles M. Watson Jr., County Attorney, County of Greenwood, 600 Monument St., Suite 102, Greenwood, SC 29646, phone (864) 942-3140.

i. FERC Contact: Any questions on this notice should be addressed to Brian Romanek at (202) 502-6175.

j. Deadline for filing comments and or motions: March 2, 2009.

k. Description of Application: Greenwood County, licensee for the Buzzard's Roost Project, has filed an application seeking authorization from the Federal Energy Regulatory Commission to issue a permit to Crystal Bay II Homeowners Association to construct additional boat docking facilities at an existing marina. The marina has boat docking facilities that accommodate 11 boats and would be expanded to accommodate 26 boats. Also, a courtesy dock would be constructed adjacent to the existing boat launching ramp. This marina would service the residential community known as “Crystal Bay” on Lake Greenwood in Laurens County, South Carolina.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (P-1267) to access the document. You may also register online at http://www.ferc.gov/docs-filing/esubscription.asp to be notified via e-mail of new filings and issuances related to this or other pending projects. For assistance, call 1-866-208-3676 or e-mail FERCOnlineSupport@ferc.gov; for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (P-1267-085). All documents (original and eight copies) should be filed with: Kimberly D. Bose, Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-2693 Filed 2-9-09; 8:45 am]

BILLING CODE 6717-01-P